DEPARTMENT OF TRANSPORTATION

Federal Aviation Administration

14 CFR Part 93

[Docket No. FAA-2004-17005; Notice No. 05-12]

RIN 2120-AI17

Washington, DC Metropolitan Area Special Flight Rules Area; Reopening of Comment Period and Intent To Hold Public Meeting

AGENCY: Federal Aviation Administration (FAA), DOT.

ACTION: Notice of proposed rulemaking (NPRM); reopening of comment period.

SUMMARY: In this action, the FAA reopens the comment period and announces its intention to hold a public meeting concerning the “Washington, DC Metropolitan Area Special Flight Rules Area” NPRM that was published August 4, 2005. In that document, the FAA proposed to codify current flight restrictions for certain aircraft operations in the Washington, DC Metropolitan Area. This reopening is in response to requests from Members of Congress and industry associations.

DATES: The comment period for the proposed rule published on August 4, 2005 (70 FR 45250) closed November 2, 2005 and is reopened until February 6, 2006. The date for the public meeting will be announced in a future document.

ADDRESSES: You may send comments, identified by docket number, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ellen Crum, Airspace and Rules, Office of System Operations and Safety, Federal Aviation Administration, 800 Independence Avenue, SW., Washington, DC 20591; telephone (202) 267-8783.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Sensitive Security Information

Do not file in the docket information that you consider to be sensitive security information. Send or deliver this information (identified as docket number FAA-2003-17005) directly to Edith V. Parish, Acting Manager, Airspace and Rules, Office of System Operations and Safety, Federal Aviation Administration, 800 Independence Avenue, SW., Washington, DC 20591, telephone (202) 267-8783. You must mark information that you consider security-sensitive.

Under 14 CFR 11.35 (a), we will review comments as we receive them, before they are placed in the docket. If a comment contains sensitive security information, we remove it before placing the comment in the general docket.

Background

On August 4, 2005 (70 FR 45250), the FAA proposed to amend 14 CFR part 93 to permanently codify the temporary flight restrictions over the Washington, DC Metropolitan Area. The comment period closed November 2, 2005. The FAA has received requests from the U.S. House of Representatives Committee on Transportation and Infrastructure, the National Business Aviation Association, Inc. (NBAA), the Aircraft Owners and Pilots Association (AOPA), the General Aviation Manufacturers Association (GAMA), and the Secretary of Transportation of the Commonwealth of Virginia to extend the comment period and hold public meetings.

Today's Action

The FAA has determined that it is in the public interest to reopen the comment period for the proposed rule published on August 4, 2005 (70 FR 45250) until February 6, 2006 and hold a public meeting. The date, time, and location of this public meeting will be announced in a future Federal Register document.

Issued in Washington, DC, on November 3, 2005.
Edith V. Parish,
Acting Director, System Operations and Safety.

[FR Doc. 05-22261 Filed 11-3-05; 2:46 pm]

BILLING CODE 4910-13-P